DEPARTMENT OF COMMERCE

Foreign-Trade Zones Board

[Order No. 1809]

Termination of Foreign-Trade Subzone 176A Dundee, IL

Pursuant to the authority granted in the Foreign-Trade Zones Act of June 18, 1934, as amended (19 U.S.C. 81a-81u), and the Foreign-Trade Zones Board Regulations (15 CFR Part 400), the Foreign-Trade Zones Board has adopted the following order:

Whereas, on April 1, 1992, the Foreign-Trade Zones Board issued a grant of authority to the Greater Rockford Airport Authority (grantee of FTZ 176), authorizing the establishment of Foreign-Trade Subzone 176A at the Milk Specialties Company facility in Dundee, Illinois (Board Order 570, 57 FR 12292; 4-9-1992);

Whereas, the grantee has advised that zone procedures are no longer needed at the facility and requested voluntary termination of Subzone 176A (FTZ Docket 2-2012);

Whereas, the request has been reviewed by the FTZ Staff and U.S. Customs and Border Protection officials, and approval has been recommended;

Now, therefore, the Foreign-Trade Zones Board terminates the subzone status of Subzone 176A, effective this date.

Signed at Washington, DC, this 31 day of January 2012.
Paul Piquado,
Assistant Secretary of Commerce for Import Administration, Alternate Chairman, Foreign-Trade Zones Board.
Andrew McGilvray,
Executive Secretary.

[FR Doc. 2012-2794 Filed 2-6-12; 8:45 am]

BILLING CODE P